DEPARTMENT OF ENERGY

Federal Energy Regulatory Commission

[Project No. 12576-004]

CRD Hydroelectric, LLC; Notice of Application Accepted for Filing and Soliciting Motions To Intervene and Protests

May 27, 2009.

Take notice that the following hydroelectric application has been filed with the Commission and is available for public inspection.

a. Type of Application: Original License.

b. Project No.: 12576-004.

c. Date Filed: February 24, 2009.

d. Applicant: CRD Hydroelectric, LLC.

e. Name of Project: Red Rock Hydroelectric Project.

f. Location: On the Des Moines River, in Marion County, Iowa. The project would be located at U.S. Army Corps of Engineer facilities.

g. Filed Pursuant to: Federal Power Act 16 U.S.C. 791(a)-825(r).

h. Applicant Contact: Mr. Douglas A. Spaulding, Nelson Energy LLC, 8441 Wayzata Blvd., Suite 101, Golden Valley, MN 55426; (952) 544-8133.

i. FERC Contact: Timothy Konnert, (202) 502-6359 or timothy.konnert@ferc.gov.

j. Deadline for filing motions to intervene and protests: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, but is not ready for environmental analysis at this time.

l. The proposed Red Rock Hydroelectric Project would be located at the existing U.S. Army Corps of Engineers (Corps) Red Rock dam, which was constructed by the Corps in 1969 for flood control. The existing Corps facilities consist of: (1) A 110-foot-high, 6,260-foot-long earth-fill dam with a 241-foot-long gated ogee spillway equipped with five 45-foot-high tainter gates; and (2) a 15,253-acre reservoir at a normal conservation pool water surface elevation of 742.0 feet National Geodetic Vertical Datum of 1929.

The proposed project would utilize the head created by the existing Corps dam and consist of: (1) A new, 127-foot-long by 19-foot-wide intake structure connected to; (2) three new 19-foot-diameter, 211-foot-long penstocks passing through the left side of the spillway leading to; (3) a new 59-foot-long by 132-foot-wide powerhouse located directly downstream of the existing spillway structure containing three new 12.13-megawatt (MW) generating units with a total installed capacity of 36.4 MW; (4) a new 8.4-mile-long, 69-kilovolt transmission line; and (5) appurtenant facilities. The estimated average annual generation would be 158,000 megawatt hours.

The project would be operated in run-of-river mode in that it would have no storage and only use flows released by the Corps in accordance with its present operations.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: The application will be processed according to the following Hydro Licensing Schedule. Revisions to the schedule will be made as appropriate.

Issue Scoping Document | October 2009.
Notice of application is ready for environmental analysis | January 2010.
Notice of the availability of the EA | November 2010.

Kimberly D. Bose,
Secretary.

[FR Doc. E9-12868 Filed 6-2-09; 8:45 am]

BILLING CODE 6717-01-P